NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66).

Date and Time:

August 14, 2018; 12:30 p.m.-5:00 p.m.

August 15, 2018; 8:30 a.m.-4:00 p.m.

Place: National Science Foundation, 2415 Eisenhower Ave. Alexandria, VA 22314.

Meeting Information: https://www.nsf.gov/mps/advisory.jsp.

Type of Meeting: Open.

Contact Person: Christopher Coox, National Science Foundation, 2415 Eisenhower Ave., Alexandria, VA 22314; Telephone: 703.292.5137; Email: ccoox@nsf.gov.

Purpose of Meeting: To provide advice, recommendations, and counsel on major goals and policies pertaining to mathematical and physical sciences programs and activities.

Agenda

Tuesday, August 14, 2018

• Meeting opening, FACA briefing, introductions, and approval of previous meeting minutes

• MPS update

• Big Ideas: Quantum Leap: Leading the Next Quantum Revolution

• Big Ideas: Windows on the Universe: The Era of Multi-Messenger Astrophysics

• Preparation for meeting with the NSF Director and Chief Operating Officer (COO)

Wednesday, August 15, 2018

• Meeting opening and FACA briefing

• Update: Sexual Harassment

• Big Ideas: Harnessing the Data Revolution

• Big Ideas: Understanding the Rules of Life: Predicting Phenotype

• Discussion: Synthetic Biology

• Update from MPSAC sub-committee on the Physics Frontiers Centers Program

• Discussion with NSF Director and COO

• Wrap up and opportunity for public Q&A/comments

Dated: July 30, 2018.
Crystal Robinson,
Committee Management Officer.

[FR Doc. 2018-16551 Filed 8-1-18; 8:45 am]

BILLING CODE 7555-01-P